DEPARTMENT OF JUSTICE

Notice of Lodging of Consent Decree Under the Clean Air Act

Notice is hereby given that on April 9, 2003, a proposed Consent Decree in United States v. CF&I Steel, L.P., d/b/a Rocky Mountain Steel Mills, an action for injunctive relief and civil penalties pursuant to the Clean Air Act, 42 U.S.C. 7401 et seq., was lodged with the United States District Court for the District of Colorado, Case No. 03-M-0608.

In this action, the United States sought injunctive relief and civil penalties against Rocky Mountain Steel Mills for alleged violations of the Prevention of Significant Deterioration (“PSD”) requirements and New Source Performance Standards set forth in the Clean Air Act. The alleged violations occurred when Rocky Mountain Steel Mills undertook a series of modifications at its steelmaking facility located in Pueblo, Colorado. In the proposed Consent Decree, Rocky Mountain Steel Mills agrees to conduct a modernization project at its facility, which will involve the shutdown of its two existing electric arc furnaces and replacement with a new, modernized furnace. The Consent Decree requires that Rocky Mountain Steel Mills meet the New Source Performance Standards set forth at 40 CFR part 60, subpart Aaa, and install the Best Available Control Technologies to minimize emissions from the new furnace. The precise emissions limitations that Rocky Mountain Steel Mills will have to meet will be set forth in a PSD permit to be issued by the State of Colorado and approved by EPA. The estimated costs of these renovations is $25 million. The proposed consent Decree also requires that Rocky Mountain Steel Mills pay a civil penalty of $450,000 and perform several Supplemental Environmental Projects (“SEPs”) and undertake additional relief valued at over $750,000. The SEPs and additional relief will result in reductions of emissions from the facility beyond those required by law and address some of the impacts on the surrounding community that resulted from Rocky Mountain Steel Mills' violations of the Act.

The Department of Justice will receive for a period of 30 days from the date of this publication comments relating to the Consent Decree. Comments should be addressed to the Assistant Attorney General, Environment and Natural Resources Division, PO Box 7611, U.S. Department of Justice, Washington, DC 20044-7611, and should refer to United States v. CF&I Steel, L.P. d/b/a/ Rocky Mountain Steel Mills, D.J. Ref. DJ# 90-5-2-1-07496.

The Consent Decree may be examined at U.S. EPA Region 8, 999 18th Street, Suite 500, Denver, Colorado, 80202. During the public comment period, the Settlement Agreement, may also be examined on the following Department of Justice Web site, http://www.usdoj.gov/enrd/open.html. A copy of the Settlement Agreement may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.80 for the Consent Decree only and $25.40 for the Consent Decree plus Appendices.

Robert Brook,
Assistant Chief, Environmental Enforcement Section, Environment and Natural Resources Division.

[FR Doc. 03-10083 Filed 4-23-03; 8:45 am]

BILLING CODE 4410-15-M